DEPARTMENT OF AGRICULTURE

Commodity Credit Corporation

Notice of Request for Extension of a Currently Approved Information Collection

AGENCY: Commodity Credit Corporation, USDA.

ACTION: Notice and request for comments.

SUMMARY: In accordance with the Paperwork Reduction Act, this notice announces the Commodity Credit Corporation's (CCC) intention to request an extension for and revision to a currently approved information collection. This information collection is used in support of loan programs regarding rice, feed grains, wheat, oilseeds, and farm-stored peanuts as authorized by the Federal Agriculture Improvement and Reform Act of 1996 (the 1996 Act).

DATES: Comments on this notice must be received on or before March 20, 2000 to be assured consideration.

FOR FURTHER INFORMATION CONTACT: Grady Bilberry, Director, Price Support Division, USDA, FSA, STOP 0512, 1400 Independence Avenue, SW, Washington, DC 20250-0512; telephone (202) 720-7901; e-mail: candy_thompson@ wdc.fsa.usda.gov; or facsimile (202) 690-3307.

SUPPLEMENTARY INFORMATION Title: Loan Program.

OMB Control Number: 0560-0087.

Expiration Date of Approval: March 31, 2000.

Type of Request: Extension of a currently approved. information collection.

Abstract: The 1996 Act provides for marketing assistance loans to eligible producers with respect to eligible loan commodities. The information is necessary to determine loan collateral and principal amounts and confirm producer and commodity eligibility.

Producers requesting CCC commodity loans must provide specific data relative to the loan request. Forms included in this information collection package require the type of commodity, quantity of commodity, storage location, liens on the commodity, etc., in order to determine quantity and principal amounts, file security interests, and confirm eligibility. Producers must also agree to the terms and conditions contained in the loan note and security agreement and other loan-related forms.

Estimate of Burden: Public reporting burden for this collection of information is estimated to average .219 hours per response.

Respondents: Producers.

Estimated Number of Respondents: 364,240.

Estimated Number of Responses per Respondent: 4.18.

Estimated Total Annual Burden on Respondents: 448,136 hours.

Proposed topics for comments include: (a) Whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology. Comments must be sent to the Desk Officer for Agriculture, Office of Information and Regulatory Affairs, Office of Management and Budget, Washington, DC 20503 and to Grady Bilberry, Director, Price Support Division, USDA, FSA, STOP 0512, 1400 Independence Avenue, SW, Washington, DC 20250-0512; telephone (202) 720-7901; e-mail: candy_thompson @wdc.fsa.usda.gov; or facsimile (202) 690-3307. Copies of the information collection may be obtained from Raellen Erickson at the above address.

All responses to this notice will be summarized and included in the request for OMB approval. All comments will also become a matter of public record.

Signed at Washington, DC, on January 12, 2000.
Keith Kelly,
Executive Vice President, Commodity Credit Corporation.

[FR Doc. 00-1279 Filed 1-19-00; 8:45 am]

BILLING CODE 3410-05-P